ENVIRONMENTAL PROTECTION AGENCY

[EPA-HQ-OPP-2022-0223; FRL-11967-02-OCSPP]

Chlorpyrifos; Correction to the Cancellation Order of June 24, 2024

AGENCY: Environmental Protection Agency (EPA).

ACTION: Notice.

SUMMARY: On June 24, 2024, the Environmental Protection Agency (EPA or the Agency) issued a final cancellation order pursuant to the Federal Insecticide, Fungicide, and Rodenticide Act (FIFRA) terminating several food uses on registered chlorpyrifos products, the majority of which were voluntarily requested by Gharda Chemicals International, Inc. (Gharda) and accepted by the Agency. Upon further review of that order, EPA identified an error, which it is correcting in this document. Specifically, EPA is rescinding the termination of asparagus use in the state of Michigan for Pilot 4E Chlorpyrifos Agricultural Insecticide, EPA Reg. No. 93182-7, as Gharda did not request termination of that use.

DATES: This amendment is effective on June 16, 2025.

ADDRESSES: The docket for this action, identified by docket identification (ID) number EPA-HQ-OPP-2022-0223, is available at https://www.regulations.gov. Additional instructions on visiting the docket, along with more information about dockets generally, are available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: 202-566-0700; email address: OPPChlorpyrifosInquiries@epa.gov.

SUPPLEMENTARY INFORMATION:

I. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What is the Agency's authority for taking these actions?

FIFRA section 6(f)(1) (7 U.S.C. 136d(f)(1)) provides that a registrant of a pesticide product may at any time request that any of its pesticide registrations be cancelled or amended to terminate one or more registered uses.

III. What action is the Agency taking?

EPA issued a cancellation order in the Federal Register of June 24, 2024 (89 FR 52459, June 24, 2024 (FRL-11967-01-OCSPP)), that terminated certain food uses for products registered under FIFRA section 3 (7 U.S.C. 136a), in response to a request from the registrant Gharda. EPA inadvertently terminated one food use that Gharda did not request to terminate, i.e., use on asparagus in the state of Michigan for the pesticide product Pilot 4E Chlorpyrifos Agricultural Insecticide (EPA Reg. No. 93182-7). Because there was no request from the registrant, EPA lacked authority to terminate that use under FIFRA section 6(f) and is accordingly rescinding the termination of asparagus use in the state of Michigan for the Pilot 4E Chlorpyrifos Agricultural Insecticide, EPA Reg. No. 93182-7.

Dated: June 11, 2025.
Jean Anne Overstreet,
Director, Pesticide Re-Evaluation Division, Office of Pesticide Programs.

[FR Doc. 2025-10958 Filed 6-13-25; 8:45 am]

BILLING CODE 6560-50-P